DEPARTMENT OF TRANSPORTATION

National Highway Traffic Safety Administration

49 CFR Part 571

[Docket No. NHTSA-2006-15712]

Federal Motor Vehicle Safety Standards; Glazing Materials; Correction

AGENCY: National Highway Traffic Safety Administration (NHTSA), Department of Transportation (DOT).

ACTION: Correcting amendment.

SUMMARY: In July 2003, the agency published a final rule updating our Federal motor vehicle safety standard on glazing materials. As part of that rulemaking, boundaries were established for shade bands on vehicle windshields in order to limit their potential encroachment on the driver's field of view. As part of the new shade band requirements, the Society of Automotive Engineers (SAE) Recommended Practice J100 (rev. June 1995), “Class ‘A’ Vehicle Glazing Shade Bands,” was incorporated by reference into the standard. However, in a July 2005 final rule responding to petitions for reconsideration of that earlier rulemaking, the standard's provisions related to shade bands requirements were amended, and as a result, a later but substantively identical version of SAE J100 (i.e., the November 1999 revision) was inadvertently included in the standard. The July 2005 final rule should have referenced SAE J100 (rev. June 1995), the document properly incorporated by reference into the safety standard. This document corrects this inconsistency resulting from administrative error.

DATES: Effective date: This correcting amendment is effective December 4, 2006.

FOR FURTHER INFORMATION CONTACT: Mr. Eric Stas, Attorney-Advisor, Office of the Chief Counsel, NCC-112, 400 Seventh Street, SW., Washington, DC 20590. Telephone: (202) 366-2992. Fax: (202) 366-3820.

SUPPLEMENTARY INFORMATION: On July 25, 2003, the agency published a final rule updating Federal Motor Vehicle Safety Standard (FMVSS) No. 205, Glazing Materials (68 FR 43964). As part of that rulemaking, boundaries were established for shade bands on vehicle windshields in order to limit their potential encroachment on the driver's field of view. Prior to that rulemaking, the size of the shade band was not explicitly defined under the standard. As part of the new shade band requirements (see S3.2(c)), the final rule incorporated by reference SAE Recommended Practice J100 (rev. June 1995), “Class ‘A’ Vehicle Glazing Shade Bands” into the standard (see 68 FR 43964, 43972 (July 25, 2003)).

However, in a July 12, 2005 final rule responding to petitions for reconsideration of that earlier rulemaking, the standard's provisions related to shade bands requirements were amended, and as a result, a later version of SAE J100 (i.e., the November 1999 revision) was inadvertently included in the standard under paragraph S5.3.1 (see 70 FR 39959, 39965). The latest version of SAE J100 (the November 1999 revision) is not substantively different from the prior June 1995 version of that standard; it merely reaffirmed that Recommended Practice as part of SAE's cyclical review process. Furthermore, the final rule responding to petitions for reconsideration does not reflect any affirmative intention on the part of the agency to adopt the later version of SAE J100. Thus, the July 2005 final rule's amendments to Standard No. 205 should have referenced SAE J100 (rev. June 1995), the document properly incorporated by reference into the safety standard. This document corrects this inconsistency resulting from administrative error.

This correction will not impose or relax any substantive requirements or burdens on manufacturers. Therefore, NHTSA finds for good cause that any notice and opportunity for comment on these correcting amendments are not necessary.

List of Subjects in 49 CFR Part 571

Imports, Incorporation by reference, Motor vehicle safety; Reporting and recordkeeping requirements, Tires.

Accordingly, 49 CFR part 571 is corrected by making the following correcting amendment:

PART 571—FEDERAL MOTOR VEHICLE SAFETY STANDARDS

1. The authority citation for part 571 continues to read as follows:

Authority: 49 U.S.C. 322, 30111, 30115, 30117, and 30166; delegation of authority at 49 CFR 1.50.

2. Paragraph S5.3.1 of 571.205 is revised to read as follows:

§ 571.205 Glazing materials.

* * * * *

S5.3 Shade Bands. * * *

S5.3.1 Shade bands for windshields shall comply with SAE J100 JUNE 1995.

* * * * *

Issued: October 26, 2006.
Stephen R. Kratzke,
Associate Administrator for Rulemaking.

[FR Doc. E6-18390 Filed 11-1-06; 8:45 am]

BILLING CODE 4910-59-P